DEPARTMENT OF COMMERCE

Foreign-Trade Zones Board

[B-4-2016]

Foreign-Trade Zone (FTZ) 196—Fort Worth, Texas; Notification of Proposed Production Activity, General Electric Transportation (Locomotives, Drill Equipment, Off-Highway Vehicle Wheels, Inverters and Brake Systems); Fort Worth and Haslet, Texas

General Electric Transportation (GE Transportation) submitted a notification of proposed production activity to the FTZ Board for its facilities in Fort Worth and Haslet, Texas within FTZ 196. The notification conforming to the requirements of the regulations of the FTZ Board (15 CFR 400.22) was received on January 20, 2016.

A separate application for subzone designation at the GE Transportation facility was submitted and will be processed under Section 400.38 of the Board's regulations. The facility is used for the manufacturing, kitting, repairing, warehousing and distribution of locomotives, off-highway vehicle (OHV) wheels, OHV inverters, OHV brake systems, locomotive components, OHV components and drill equipment. Pursuant to 15 CFR 400.14(b), FTZ activity would be limited to the specific foreign-status materials and components and specific finished products described in the submitted notification (as described below) and subsequently authorized by the FTZ Board.

Production under FTZ procedures could exempt GE Transportation from customs duty payments on the foreign-status components used in export production. On its domestic sales, GE Transportation would be able to choose the duty rates during customs entry procedures that apply to: AC combo units; AC motors; AC traction motors; air brakes; air brake arrangements; air brake supports; air duct assemblies; air inlets; angles; angle assemblies; armature assemblies; auxiliary cabs; axles; banding strips; bases; bearing housings; bearing kits; bearing retainers; bearing supports; blowers; blower cab assemblies; brackets; bracket assemblies; brake line brackets; brake shoes; electronic brake valve assemblies; breaker supports; bumpers; cab control desk-helper consoles; cables; cable assemblies; cams; cam assemblies; cam sections; cam shafts; cap assemblies; capacitors; carrier assemblies; casting assemblies; channel assemblies; cleat supports; conduits; conduit assemblies; conduit fittings; connecting rods; connection straps; console modules; contact assemblies; control groups; cover kits; deck plates; deck plate assemblies; doors; door arrangements; door assemblies; door latch clamps; door posts; door stop assemblies; electric panels—operator cab; electric panel assemblies; emergency valve assemblies; end plates; end sheet assemblies; exciter poles; fans; fan blades; fan hubs; fittings; flanges; flange assemblies; flexible conduits; floor trim kits; foot rests; frames; frame assemblies; frame structures; gas spring assemblies; gears; gear and pinion assemblies; gear and pinion shafts; guard assemblies; gussets; handrails; handrail support assemblies; handrail support bracket-bases; harnesses; hatch covers; hinges; hooks; hubs; identification tags; insulation; intercoolers; intercooler fans; interlocks; interlocking panels; inverters; locomotives; lube oil pumps; lube sticks; machined frames; machined torque tubes; magnetic valves; manifold assemblies; name plates; oil filters; oil pumps; panels; panel assemblies; pins; pin assemblies; pinion gears; pipes; plates—steel machined; reflectors; resistor panels; rings; ring gears; rocker arms; rods—steel support for battery box; rotor assemblies; rotor poles; rotor supports; rotor yokes; safety guard assemblies; sand support assemblies; sand trap sub-assemblies; sheetshields; shims; shrouds; side wall assemblies; slack adjusters; spacers for air rack assemblies; spacers for helpers consoles; stator assemblies; stator frames; steps; stiffener assemblies; banding strips; strongbacks for power assemblies; strut assemblies; support assemblies; support brackets; supports for air brake assemblies; supports for interlock assemblies; steel pipe supports for air brake assemblies; tape rails; threaded pipe fittings; tie rings; torque tubes; trucks; truck assemblies; truck modules; tube assemblies; machined u-tubes; valve assemblies; vent hoses; walkway assemblies; water discharge pipes; water pump assemblies; weldments; wheels; wheel hubs; windows; wire plugs; and, wire pull kits (duty rate ranges from duty-free to 9.9%) for the foreign-status inputs noted below. Customs duties also could possibly be deferred or reduced on foreign-status production equipment.

The components and materials sourced from abroad include: 12-Point bolts; 3-tone air horns; 45-degree elbows; AC coils; AC combination assemblies; AC combo units; AC motors; AC traction motors; accumulator over flows; acorn nuts; activators; adapters; adapter fittings; adapter plates; adhesives; adhesive tapes; adjustment rings for water pumps; aftercoolers; air brakes; air brake arrangements; air brake conduits; air brake supports; air cleaners; air compressors; air dryers; air ducts; air duct assemblies; air hoses; air inlets; air rack welds; air turners; alternators; alternator connection rings; angles; angle assemblies; antennas; antenna adapters; antenna cables; antenna mounts; antenna plates; anti-seize compounds; anti-skid coatings; arm rests; armatures; armature assemblies; aspect display units; audio alarm panels; auxiliary cab lists; auxiliary speed indicators; axles; back plates; baffles; bags; baggie filters; ball bearings; ball valves; ballast; ballast box assemblies; banding strips; banjo bolts; round and flat hot rolled steel bar; bar assemblies; barbed hose fittings; barrels—frame structure from casting; barrels—frame structure from rolled ring; barrel bolt assemblies; barrier assemblies; base assemblies; bases for auxiliary cab assemblies; bases for panel assemblies; bases for resistor panel assemblies; battery boxes; battery box liners; battery box weldments; battery switches; AC Euro auxiliary battery transformers; bearings; bearing caps; journal bearing caps; bearing housings; bearing kits; bearing retainers; bearing retainer rings; bearing supports; bells; blank labels; blocks for truck assemblies; blocks for motorized wheel assemblies; blocks for rotor assemblies; blocks for stator frames; blow out coils; blowers; blower cab assemblies; blower case castings; blower motor bushings; bobbins; bolsters; bolts; bolt locks; bottom plates; braces for backbone platform assemblies; brackets; bracket assemblies; brake adapters; brake cylinders; brake hubs; brake line assemblies; brake line brackets; brake shoes; electronic brake valve assemblies; braking potentiometer kits; braze alloys; brazing strips; breaker supports; bridge housings; brush holders; bumpers; busbar assemblies; busbar kits; bushings; bushing reducers; cab display units; cab signal panels; cables; cable assemblies; cable caps; cable cleats; cable interfaces; cable markers; cable supports; cable tray assemblies; cable wires; cabling trays; cams; cam bearings; cam sections; cam sensors; cam shafts; camera subassemblies; canister hose assemblies; caps; quick disconnect caps; cap assemblies; cap screws; capacitors; capacitor discharge indicator panels; capacitor supports; captive bolts; carbon brushes; carbon inserts; programmable controller cards; card holders; carrier assemblies; carrier castings; cartridges; castings; casting assemblies; c-clamps; cell antennas; cell modem kits; cement; chains; channel assemblies; charcoal foam; chase nipples; check fire control units; check valve assemblies; chloroprene rubber; chokes; circuit breakers; circuit breaker covers; c-clamps for engine fuel lines; cushion clamps; hose clamps; clamp bar assemblies for radiator cabs; busring clamps for stator assemblies; clamps for radios; clamps for wire harnesses; cleat assemblies; cleat supports; steel clevis for parking brakes; cloth bags; cloth by the roll for insulation; coalescers for diesel engines; coalescer pipe assemblies; coat & hangar hooks; coil springs; collar assemblies; collars for armature bearing assemblies; collars for axle bearing assemblies; collision posts; commutators; compressor assemblies; computers; flex conduits for locomotive assemblies; conduits for final locomotive assembly piping; rigid conduits for pipe rack assemblies; steel threaded conduits; conduit assemblies; conduit couplings; conduit fittings; conduits for platform piping; conduit tubes; connecting rods; connection assemblies; connection straps; connectors; connector plugs; console assemblies; console control box assemblies; console modules; contacts; contact assemblies; contact pins; contact sockets; contactors; control consoles; control groups; control units; control valves; controller kits; copper tubing; cotter pins; couplers; coupler stops; coupler supports; couplings; coupling assemblies; coupling bolts; diesel engine covers; cover assemblies; covers for AC motors; covers for assemblies; covers for panels; cover for panel assemblies; cover kits; cover plates; cover plates for engine assemblies; crankshafts; crimpring assemblies; current indicator lamps; cushion assemblies; customized decals; cut out cocks; dampers; damping sheets; decals; lettering decals; deck plates; deck plate assemblies; deflectors; detector arrangements; diesel engines; diffusers; diodes; diode panels; dipstick assemblies; dipstick tubes; displays; door and trim seals; door arrangements; door assemblies; oil filter door assemblies; door latch clamps; door latch keepers; door latch kits; door liners; door locks; door locomotive assemblies; door posts; door seals; door stops; dowel pins; drain hoses; drain plugs; drain valves; drain valve assemblies; drive rings; drive shafts; drive shaft plugs; ducts; duct assemblies; duct strappings; duct tape; dust caps; dynamic brakes; dynamic brake assemblies; dynamic brake blocks; dynamic brake weldments; eductor tube assemblies; 90 and 45 degree grooved pipe fitting elbows; 90 degree with spiral bellow pipe fitting elbows; alloy steel pipe fitting elbows; aluminum elbow assemblies; elbows—butt welded or threaded pipe fitting—iron or nonalloy steel; steel pipe fitting elbows; elbow assemblies; elbow sockets; elbow unions; electrical equipment alcoves; electrical equipment locker kits; electronic control area modules; electronic control unit-auxiliary cabs; emergency valves; enclosures; end plates; end plate seals; end sheets; end sheet assemblies; engine cab kits; engine control units; engine mounts; engine wedges; epoxy sheets; equipment boxes; ethylene propoleve o-ring seals; event recorders; exciter poles; external microphones; extraction tools; fans; fan blades; fan hubs; felt; felt seals; female contacts; ferrule; fiber glass cords; fiberglass tape; field transformers; fill caps; filters; filter antennas; filter assemblies; filter bracket assemblies; filter discharge relays; finger assemblies; fire extinguishers; fire protection system arrangements; fire suppression controllers; first aid kits; copper fittings; fuel line fittings; iron non-threaded fittings; malleable iron or steel fittings; quick disconnect coupling with fluorocarbon seat fittings; quick disconnect high pressure fittings; stainless steel 37 degree coupling fittings; threaded iron fittings; fitting adapters; fitting quick connects; flag racks; flanges; flange assemblies; flash drives; flat bars; flat heads; flat washers; flex ducts; flex tubing; flexible conduits; flexible hoses; flexible tubing; flinger assemblies; floor mats; floor trim kits; foam tape; folding seats; foot handrail supports; foot rests; foot switches; forgings; frames; frame assemblies; frame castings; frame casting structures; frame weldments; front plates; fuel drain valves; fuel filters; fuel gages; fuel heater assemblies; fuel line assemblies; fuel pumps; fuel tank assemblies; fuses; fuse holders; gages; gas spring assemblies; gaskets; gate drive inverters; gate drivers for insulated gate bipolar transistors (power converter); gears; gear and pinion assemblies; gear and pinion shafts; gear case covers; glass; glass covers; glass tape; glasscloth; globe valves; GPS receivers; grab handles; grab handle gratings; grease; grease fittings; flared rubber grommets; ground blocks; ground detection panels; electrical switch guards; neoprene strip guards; operator cab assembly guards; rain guards; wire guards; guard assemblies; guide pins; gussets; handrails; handrail support assemblies; handrail bases; hardened spacers; hardened washers; harnesses; hatch covers; hatch lift assemblies; headlight shell assemblies; heat sinks; heated windows; heaves; heavy duty anti-seize lubricant compounds; hex bolts; hex head pins; hex head screws; hex reducing nipples; hex screws; hex socket bolts; hex tube fittings; hinges; hinge pins; hooks; horns; air and signal hoses; flexible hoses; rear wiper hose assemblies; rubber hoses; single ply neoprene hoses; hose assemblies; hose clamps; hose connectors; hose supports; hoses with fittings; hoses without fittings; housing bases for insulated gate bipolar transistors (power converter); housing bearings; housings for insulated gate bipolar transistors (power converter); hubs; hub bearings; humidity sensors; HVAC—unitary heater and air conditioning units for locomotives; hydraulic cylinder rings; hydraulic jacks; identification tags for locomotive consoles; indicators; indicator light supports; indicator plates; inlet valves; inner seals; inserts; insulated gate bipolar transistor (power converter) modules; insulating bolts; insulation; intercoolers; intercooler fans; interlocks; interlocking panels; internal battery assemblies; inverters; inverter weldments; isolators; journal bearings; joy sticks; jumper cables; junction boxes; keys; knife switches; knurled studs; labels; ladders; lamps; lamp assemblies; lamp holders; lamp receptacles; lamp sockets; lamp units; lanyard assemblies—distributed air brake system; latches; lead-acid batteries; led diodes; LED lite box assemblies; lenses; levers; lever assemblies; lift plates; lifting hooks; lifting lugs; light assemblies; light box assemblies; light covers; operator cab wall lining sheets; lining sidewalls for electrical panels; lock assemblies; lock kits; lock pins; lock rings; lock washers; lockwires; locomotive assemblies; locomotive horns; logic power supplies; louver assemblies; low speed bearings; lube oil; lube oil pumps; lube sticks; lubricants; lubricating materials; machined screws; machined castings; machined frames; machined gears; machined hubs; machined sleeves for wheel assemblies; machined torque tubes; magnetic frames; magnetic plugs; magnetic valves; magnetic valve panels; main sills; male contact plugs; male elbows; manifolds; manifold assemblies; manifold blocks; marker lights; marking labels—electronic rack assemblies; metal conduits; metal tubing; mica; microphone subassemblies; mirrors; modems; modules; module assemblies; module pneumatic systems; mounting axles; mounting clips; mounting flange castings; mounting plates; mounting plate assemblies; mounting rings; mufflers; name plates; negative panels; nested springs; alloy steel pipe fitting nipples; hot dipped galvanized intermediate metal conduit—threaded nipples; nipple pipe fittings—galvanized; nipple pipe fittings—threaded furnace welded steel pipe; non-skid mats; nozzles; nuts; nylon paper; nylon washers; oil coolers; oil fill covers; oil filters; oil filter weldments; oil hoses; oil inlet flanges; oil pumps; oil seals; operator cab helper's console workstations; O-rings; rubber O-rings; O-ring lubricant; o-seals; overhead consoles; paint; pan head screws; panels; panel assemblies; paper; parking brakes; pedestal liners; pedestals; pedestal seats; phone handsets; pilot pipe supports; contact pins; guide and locating pins; pin assemblies; pin connectors; pinion gears; pinion shafts; pipes; pipe assemblies; pipe caps; pipe clamps; pipe plugs; plastic pipe plugs; pipe supports; planet gear; planet gear pinions; planet shafts; plastic pipes; plastic tubing; plates; plate assemblies; connector plugs; plastic plugs; polyimide wire covers; polyimide film with silicone adhesive; pop rivets; positive panels; potentiometers; power block rectifiers; power supplies; power tap panels; prelube pumps; pressure regulators; pressure sensors; pressure switches; pressure transducers; primer paint; printed wire board assemblies; pullboxes; pumps; push button switches; push-pull switches; putty; PVC pipe; quick connectors; quick disconnect couplings; quick disconnect fittings; quick disconnect plugs; quick links; radiators; radiator cab assemblies; radiator cab weldments; radiator fans; radiator shutters; radios; radio speaker assemblies; rail antennas; rail conductor seats; rain guards; reactors; connector pin receptacles; rectifiers; reducer tees; reducing bushings; reflectors; refrigerators; relays; relief valves; resistors; resistor panels; retainer bushings; retainer rings; retaining springs; retention tanks; rheostats; rheostat knobs; rigid conduits; rim locks; ring gears; ring gear forgings; road number lenses; road number light assemblies; rocker arms; roller bearings; roller spherical bearings; roof sheets; rope/roll (permafil); rotary switches; rotor assemblies; rotor locks; rotor poles; rotor supports; rotor yokes; round bars; rubber boots; rubber dust caps; rubber hoses; rust inhibitors; rust preventative; safety screens; safety valves; sand brackets; sand fill assemblies; sand hoses; sand piping arrangements; sand traps; sand trap subassemblies; sanding support kits; screens; screen assemblies; screws; screw taps; seal assemblies; seal rings; seal strips; seal strip assemblies; sealants; sealed batteries; sealers; sealing rings; sealing tape; seats; seat supports; security screws; sensors; sensor and signal arrangements; sensor modules; set light arrangements; set screws; shafts; sheets; sheet assemblies; sheetshields; shells; shields; shield assemblies; shims; shrouds; shunts; shutters; side wall assemblies; sidebearers; signal alerters; slack adjusters; steel tubing machined sleeves; sleeving; slip ring grinding tools; slot wedges; slotted filister heads; snap action switches; universal snow plows; snowblaster nozzles; snubbers; snubber panel assemblies; sockets; solid state relays; spacers—axle bearing assemblies; back plate spacers; blower cab spacers; commutator spacers; controller assembly spacers; dynamic brake assembly spacers; exciter panel spacers; exhaust manifold bolt spacers; machined steel spacers; neoprene cable spacers; operator cab assembly spacers; operator cab weldment spacers; radiator fan assembly spacers; resistor assembly spacers; resistor spacers; stator bus rings spacers; speakers; speed sensors; speed sensor cable assemblies; splicing tape; springs; spring assemblies; spring hinges; spring seats; spur gear; staples; stator assemblies; stator frames; stators; frame castings; steel sheet; steel wood screws; steps; step assemblies; step ladders; stiffener assemblies; stops; stove pipes; strainers; strap assemblies; strips; strip heaters; strip hold-down seals; strongbacks; structural steel; strut assemblies; studs; sump assemblies; sump kits; sun visors; super cab weldments; air brake supports; balance weight supports; cleat supports; handrail supports; panel assembly supports; support assemblies; support blocks; support brackets; switches; swivels; tags; tap blocks; all weather tape; glass tape; reinforced mica tape; tape rails; tapered roller bearings; tapped blocks; alloy steel tees; threaded fitting tees; tee fittings; terminals; terminal assemblies; terminal boards; thermal detector arrangements; thermistors; thermo heater assemblies; thermocouples; thermostat switches; thrust bearings; thrust bronze washers; thrust rings; thyristors; tie bar sets; tie rings; tie wraps; tier springs; toilets; toilet cover dispensers; tool boxes; toothed couplings; top plates; torque tubes; traction pins; transducers; transformers; transmissions; transponders; tray cablings; treaded plugs; treaded rods; trim edges; trim strips; tripod seat mountings; trucks; truck assemblies; truck modules; tube assemblies; steel tube; tube tees; turbo dischargers; u-bolts; uncoupling links; unions; union tees; u-pieces; u-tube grease; u-tube machining; valves; valve assemblies; valve guides; valve mounts; varistor assemblies; varnish; vent fittings; vent hoses; vent pipe assemblies; vestibule assemblies; victaulic couplings; 45-degree victaulic elbows; victaulic flange assemblies; victaulic pipes; victaulic pipe assemblies; victaulic reducer couplings; victaulic reduction couplings; vinyl trim; visors; v-rings; v-ring seals; walkway assemblies; water discharge pipes; water drain tank assemblies; water drain valves; water gages; water pump assemblies; water separators; water separator assemblies; water tank assemblies; water tight strain relief bushings; water valves; wear plates; wedges; weld screws; weld studs; weldments; wheels; wheel axle collars; wheel hubs; wheel hub castings; wheel hub fabrications; windows; window glazing; wiper arms; wiper hoses; wiper motors; wires; wire markers; wire plugs; wire pull kits; wireways; wiring; and, yaw dampers (duty rate ranges from duty-free to 12.5%). The request indicates that inputs classified under HTSUS Subheadings 5603.94, 5607.50, 5909.00, 6305.20, 6307.90, 7019.19 and 7019.51 as well as HTSUS Headings 3208 and 3209 will be admitted to the zone in privileged foreign status (19 CFR 146.41) or domestic status (19 CFR 146.43), thereby precluding inverted tariff benefits on such items.

Public comment is invited from interested parties. Submissions shall be addressed to the Board's Executive Secretary at the address below. The closing period for their receipt is March 14, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: January 27, 2016.
Andrew McGilvray,
Executive Secretary.

[FR Doc. 2016-02045 Filed 2-2-16; 8:45 am]

BILLING CODE 3510-DS-P